NATIONAL SCIENCE FOUNDATION

Notice of Permit Modification Received Under the Antarctic Conservation Act of 1978

AGENCY: National Science Foundation.

ACTION: Notice of Permit Modification Request.

SUMMARY: The National Science Foundation (NSF) is required to publish a notice of requests to modify permits issued to conduct activities regulated under the Antarctic Conservation Act of 1978. This is the required notice of a requested permit modification.

DATES: Interested parties are invited to submit written data, comments, or views with respect to this permit application by August 17, 2016. Permit applications may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2016-005) to Allyson Hindle on October 8, 2015. The issued permit allows the applicant to study the tissue specific dive response of Weddell seals, looking at nitric oxide regulation. The study's broad objective is to better understand the natural adaptations that allow Weddell seals to control their cardiovascular system and tolerate extreme hypoxia during dives. Up to 38 Weddell seals would be temporarily restrained for sample collection and morphological measurement. In addition, the applicant plans to salvage parts of dead animals encountered. Collected samples will be imported to the USA for lab analyses.

Now the applicant proposes a modification to her permit to collect samples from an additional 12 live Weddell seals in order to validate results over time and between seasons. The additional samples will be collected following the currently permitted protocols, handling procedures, and disposition of samples. The additional sampling is covered under NMFS/MMPA permit #19439.

Location: Delbridge Islands, Turks Head, Turtle Rock, Hutton Cliffs, Erebus Glacier Tongue, and in and around McMurdo Sound.

Dates: August 1, 2016 to April 30, 2018.

Nadene G. Kennedy,
Polar Coordination Specialist, Division of Polar Programs.

[FR Doc. 2016-16869 Filed 7-15-16; 8:45 am]

BILLING CODE 7555-01-P